DEPARTMENT OF AGRICULTURE

Forest Service

Information Collection; Locatable Minerals

AGENCY: Forest Service, USDA.

ACTION: Notice, request for comment.

SUMMARY: In accordance with the Paperwork Reduction Act of 1995, the Forest Service is seeking comments from all interested individuals and organizations on the extension of a currently approved information collection, 36 CFR part 228, subpart A—Locatable Minerals.

DATES: Comments must be received in writing on or before December 9, 2014 to be assured of consideration. Comments received after that date will be considered to the extent practicable.

ADDRESSES: Comments concerning this notice should be addressed to: Forest Service, Director, Minerals and Geology Management Staff, Mail Stop 1140, 1400 Independence Ave. SW., Washington, DC 20250.

Comments also may be submitted via facsimile to 703-605-1575 or by email to: jdemaagd@fs.fed.us.

Comments submitted in response to this notice may be made available to the public through relevant Web sites and upon request. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

The public may inspect the draft supporting statement and/or comments received at 201 14th Street SW., Washington, DC during normal business hours. Visitors are encouraged to call ahead to 703-605-4545 to facilitate entry to the building. The public may request an electronic copy of the draft supporting statement and/or any comments received be sent via return email. Requests should be emailed to jdemaagd@fs.fed.us.

FOR FURTHER INFORMATION CONTACT: Jim DeMaagd, Assistant Director, Minerals and Geology Management, at 303-275-5473. Individuals who use telecommunication devices for the deaf (TDD) may call the Federal Relay Service (FRS) at 1-800-877-8339 twenty-four hours a day, every day of the year, including holidays.

SUPPLEMENTARY INFORMATION: Title: 36 CFR Part 228, Subpart A—Locatable Minerals.

OMB Number: 0596-0022

Expiration Date of Approval: January 31, 2015.

Type of Request: Extension without change of a currently approved collection.

Abstract: This collection of information is necessary to ensure that the environmental impacts associated with locatable mineral operations on National Forest System (NFS) lands are minimized to the extent practicable. The Forest Service regulations at 36 CFR 228.5 require mining operators, with some exceptions, to notify the authorized Forest Service officer of their intent to conduct a locatable mineral operation on NFS lands by filing a Notice of Intent or Plan of Operations. 36 CFR 228.10 requires mining operators to submit a Cessation of Operation when mining operations are temporarily ceased, other than for seasonal closure.

There is not a required format for the information collection, but all information identified in 36 CFR part 228 must be included. Form FS-2800-5, Plan of Operations for Mining Activities on National Forest System Lands, is available for use by mining operators to simplify this process. The information required in a Plan of Operations, detailed in 36 CFR 228.4(c), (d), and (e), includes:

1. The name and legal mailing address of operators (and claimants if they are not the same) and their lessees, assigns, or designees.

2. A map or sketch showing information sufficient to locate:

a. The proposed area of operations on the ground.

b. Existing and/or proposed roads or access routes to be used in connection with the operation as set forth in 36 CFR 228.12 on access.

c. The approximate location and size of areas where surface resources will be disturbed.

3. Information sufficient to describe the:

a. Type of operations proposed and how they would be conducted.

b. Type and standard of existing and proposed roads or access routes.

c. Means of transportation used or to be used as set forth in 36 CFR 228.12.

d. Period during which the proposed activity will take place.

e. Measures to be taken to meet the requirements for environmental protection in 36 CFR 228.8.

A Notice of Intent is required, as detailed in 36 CFR 228.4(a)(2), to include information sufficient to identify the area involved, the nature of the proposed operation, the route of access to the area of operations, and the method of transport. A Cessation of Operations is required, as detailed in 36 CFR 228.10, to include verification of intent to maintain structures, equipment, and other facilities; expected reopening date; and an estimate of extended durations of operations.

These collections of information are crucial to protecting surface resources, including plants, animals, and their habitat, as well as public safety on NFS lands. The authorized Forest Service officer will use the collected information to ensure that the exploration, development, and production of mineral resources are conducted in an environmentally sensitive manner; that these mineral operations are integrated with the planning and management of other resources using the principles of ecosystem management; and that lands disturbed by mineral operations are reclaimed using the best scientific knowledge and returned to other productive uses. If this information was not collected, the Forest Service would not be in compliance with the Federal Regulations and locatable mineral operations could result in undue damage to surface resources.

Estimate of Annual Burden: 12 Hours (10 hours—Plan of Operations; 1 hour—Notice of Intent; 1 hour—Cessation of Operations).

Type of Respondents: Mining operators.

Estimated Annual Number of Respondents: 283 (111—Plans of Operations; 169—Notices of Intent; 3—Cessation of Operations).

Estimated Annual Number of Responses per Respondent: 1.

Estimated Total Annual Burden on Respondents: 10,005 Hours (12 hours × 111 Plans of Operation = 1,332; 2 hour × 169 Notices of Intent = 338; 1 hour × 3 Cessation of Operations = 3; 1,332 + 338 + 3 = 1,673).

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: October 2, 2014.
Gregory C. Smith,
Acting Deputy Chief, National Forest System.

[FR Doc. 2014-24200 Filed 10-9-14; 8:45 am]

BILLING CODE 3411-15-P